DEPARTMENT OF DEFENSE

Department of the Navy

Notice of Intent to Grant Exclusive Patent License; NanoDynamics, Inc.

AGENCY: Department of the Navy, DoD.

ACTION: Notice.

SUMMARY: The Department of the Navy hereby gives notice of its intent to grant to NanoDynamics, Inc., a revocable, nonassignable, exclusive license to practice in the field of Halloysite microtubules for the elution of biocidal, antifungal, or other antimicrobial agents for the prevention of growth of bacteria and/or mold in Building Materials in the residential, commercial, institutional, and healthcare construction products market excluding paint, stain, varnish and other finish coatings associated with structures in the United States and certain foreign countries, the Government-owned inventions described in U.S. Patent No. 5,492,696: Controlled Release Microstructures, Navy Case No. 76,896.//U.S. Patent No. 5,651,976: Controlled Release of Active Agents Using Inorganic Tubules, Navy Case No. 76,652.//U.S. Patent No. 5,705,191: Sustained Delivery of Active Compounds from Tubules, with Rational Control, Navy Case No. 77,037.//U.S. Patent No. 6,280,759: Method of Controlled Release and Controlled Release Microstructures, Navy Case No. 78,215 and any continuations, divisionals or re-issues thereof.

DATES: Anyone wishing to object to the grant of this license must file written objections along with supporting evidence, if any, not later than June 6, 2006.

ADDRESSES: Written objections are to be filed with the Naval Research Laboratory, Code 1004, 4555 Overlook Avenue, SW., Washington, DC 20375-5320.

FOR FURTHER INFORMATION CONTACT: Head, Technology Transfer Office, NRL Code 1004, 4555 Overlook Avenue, SW., Washington, DC 20375-5320, telephone 202-767-7230. Due to U.S. Postal delays, please FAX 202-404-7920, e-mail techtran@utopia.nrl.navy.mil, or use courier delivery to expedite response.

(Authority: 35 U.S.C. 207, 37 CFR part 404)

Dated: May 16, 2006.
Saundra K. Melancon,
Paralegal Specialist, Office of the Judge Advocate General, Alternate Federal Register Liaison Officer.

[FR Doc. E6-7730 Filed 5-19-06; 8:45 am]

BILLING CODE 3810-FF-P